DEPARTMENT OF VETERANS AFFAIRS

Joint Biomedical Laboratory (BL) and Clinical Science (CS) Research and Development Services Scientific Merit Review Board, Notice of Meeting

The Department of Veterans Affairs (VA) gives notice under the Federal Advisory Committee Act, 5 U.S.C. Ch. 10, that a meeting of the Joint Biomedical Laboratory Research and Development (BLR&D) and Clinical Science Research and Development (CSR&D) Services Scientific Merit Review Board (Board) will be held January 13, 2026, from 3:00 p.m.-5:00 p.m. Eastern Standard Time (EST), via Microsoft Teams. The meeting will be open to the public from 3:00 p.m.-3:30 p.m. EST. The remained of the meeting, from 3:30 p.m.-5:00 p.m. EST, will be closed to the public and used for scientific review and discussion, examination of, and reference to the research applications. Discussions will involve staff and consultant critiques of research proposals. Discussions will also cover the scientific merit of each proposal and the qualifications of the personnel conducting the studies, the disclosure of which would constitute a clearly unwarranted invasion of personal privacy. Additionally, premature disclosure of research information could significantly obstruct implementation of proposed agency action regarding the research proposals. Therefore, portions of the Board meeting will be closed is in accordance with 5 U.S.C. 552b(c) (6) and (9)(B).

The objective of the Board is to provide for the fair and equitable selection of the most meritorious research projects for support by VA research funds and to offer advice for research program officials on program priorities and policies. The ultimate objective of the Board is to ensure the high quality and mission relevance of VA's BL/CS Research and Development programs.

Board members will advise the Directors of the BL/CS Research Services, as well as the Acting Chief Research and Development Officer, on the scientific and technical merit, mission relevance, and protection of human subjects of the proposals submitted to BL/CS. The Board does not consider grants, contracts, or other forms of extramural research.

Members of the public may attend the open portion of the meeting from 3:00 p.m.-3:30 p.m. EST, via Microsoft Teams (in listen-only mode, as the time-limited agenda does not allow for public comment or presentations). To attend the open portion of the meeting, the public may dial the Microsoft Teams phone number 1-872-701-0185 and enter the meeting access code 354 407 531#.

Written comments from members of the public should be sent to Michael R. Burgio, Ph.D., Designated Federal Officer, Office of Research and Development, Department of Veterans Affairs (14RD), 810 Vermont Avenue NW, Washington, DC 20420, or to Michael.Burgio@va.gov, at least five (5) days before the meeting. The written public comments will be shared with the Board members. The public may not attend the closed portion of the meeting.

Dated: January 5, 2026.
Jelessa M. Burney,
Federal Advisory Committee Management Officer.

[FR Doc. 2026-00094 Filed 1-6-26; 8:45 am]

BILLING CODE 8320-01-P